DEPARTMENT OF ENERGY

Federal Energy Regulatory Commission

[Docket No. EL05-136-000]

Wisconsin Public Service Corporation; Notice of Institution of Proceeding and Refund Effective Date

August 8, 2005.

On August 4, 2005, the Commission issued an order that instituted a proceeding in Docket No. EL05-136-000, pursuant to section 206 of the Federal Power Act (FPA), 16 U.S.C. 824e, concerning the rate effect of Wisconsin Public Service Corporation's deferred accounting treatment reflected in its filing in Docket No. AC05-54-000. Wisconsin Public Service Corporation, 112 FERC ¶ 61,165 (2005).

The refund effective date in Docket No. EL05-136-000, established pursuant to section 206(b) of the FPA, will be 60 days from the date of publication of this notice in the Federal Register.

Linda Mitry,
Deputy Secretary.

[FR Doc. E5-4401 Filed 8-12-05; 8:45 am]

BILLING CODE 6717-01-P